DEPARTMENT OF TRANSPORTATION

Federal Aviation Administration

14 CFR Part 71

[Docket No. FAA-2014-0295; Airspace Docket No. 14-AGL-6]

RIN 2120-AA66

Modification, Revocation, and Establishment of Multiple Air Traffic Service (ATS) Routes; North Central and Northeast United States

AGENCY: Federal Aviation Administration (FAA), DOT.

ACTION: Final rule.

SUMMARY: This action amends, removes, and establishes multiple jet routes, high altitude and low altitude Area Navigation (RNAV) routes (Q- and T-routes), and VHF Omnidirectional Range (VOR) Federal airways in the north central and northeast United States (U.S.) to reflect and accommodate route changes being made in Canadian airspace as part of Canada's Winsor-Toronto-Montreal (WTM) airspace redesign project. This action also amends or removes ATS routes with minimal or no use. This action also corrects a publishing error in the NPRM regulatory text for Q-71, reverses the order of points published for RNAV route Q-844, changes an airway point in RNAV route Q-937, refines the geographic latitude/longitude position information for one waypoint (CLNTN), and corrects the state and country identifiers for three waypoints (KARIT, ATENE, and REVEN).

DATES: Effective date 0901 UTC, November 13, 2014. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

On June 24, 2014, the FAA published in the Federal Register a notice of proposed rulemaking (NPRM) (79 FR 35702) that proposed to amend, remove, and establish multiple ATS routes in the north central and northeast United States to reflect and accommodate route changes being made in Canadian airspace as part Canada's Winsor-Toronto-Montreal (WTM) airspace redesign project. Interested parties were invited to participate in this rulemaking effort by submitting written comments on the proposal. No comments were received.

In the NPRM, a typographic error was found describing the RNAV route Q-71 identifier as “HQ-71,” and RNAV route Q-844 was described with the airway points published in reverse order. Additionally, one airway point listed in the RNAV route Q-937 description was changed from the GASSY, NY, fix to the KRAZZ, NY, fix. Also, subsequent to publication, the geographic latitude/longitude position information for the CLNTN WP in RNAV route Q-145 was refined. The state identifier for the KARIT WP in RNAV routes Q-848 and Q-923 was determined to be Michigan, reflecting the waypoint in United States airspace instead of Canadian airspace. As a result, Q-848 and Q-923 are being extended to the next waypoint within Canadian airspace to provide across border connectivity. Lastly, the country identifier for the ATENE WP in RNAV route Q-907 and the REVEN WP in RNAV route Q-947 were determined to be in Canada instead of Maine. As a result, Q-907 corrects the country identifier for the ATENE, Canada, WP and Q-947 begins at the REVEN, Canada, WP instead of the OMIXI, Canada, WP. This rule corrects these items.

The Rule

The FAA is amending Title 14, Code of Federal Regulations (14 CFR) part 71 by modifying VOR Federal airways V-84, V-91, V-104, V-203, and V-423; jet routes J-16, J-29, J-43, J-53, J-61, J-78, J-82, J-91, J-94, J-95, J-106, J-109, J-145, J-220, J-547, and J-548; and RNAV routes Q-29, Q-39, Q-67, Q-69, Q-71, Q-138, Q-140, Q-438, and Q-440. In addition, this action removes Air Traffic Service (ATS) routes V-337, J-38, J-63, J-185, J-488, J-500, J-509, J-522, J-524, J-531, J-545, J-552, J-559, J-560, J-564, J-566, J-567, J-581, J-586, J-587, J-588, J-594, J-595, Q-501, Q-502, Q-504, and Q-505. Lastly, this action establishes U.S. RNAV routes Q-82, Q-84, Q-103, and Q-145, and Canadian RNAV routes Q-806, Q-812, Q-816, Q-818, Q-822, Q-824, Q-844, Q-848, Q-905, Q-907, Q-913, Q-917, Q-923, Q-935, Q-937, Q-947, Q-951, T-608, T-616, and T-781. The VOR Federal airway, jet route, and RNAV route modifications and establishments support Canadian airspace redesign changes for routes into and out of the Winsor, Toronto, and Montreal areas within Canada; the FAA's expansion of RNAV routes within the National Airspace System (NAS); and safe and efficient across border connectivity.

This rule also corrects the RNAV route identifier from “HQ-71” to “Q-71”; revises the order of the airway waypoints of Q-844 to show standardized west to east direction; changes a waypoint fix for Q-937 from GASSY, NY, to KRAZZ, NY; and adjusts the geographic latitude/longitude coordinates for the CLNTN WP in Q-145 to be in concert with the FAA's aeronautical database. For Q-848 and Q-923, the state identifier for the KARIT WP is Michigan, thereby extending Q-848 to the MENKO, Canada, WP and extending Q-923 to the SASUT, Canada, WP to provide across border connectivity. Lastly, the country identifier for the ATENE WP in Q-907 is Canada, not Maine; and the country identifier for the REVEN WP in Q-947 is Canada, not Maine, thereby removing the OMIXI, Canada, WP and beginning the route with the REVEN, Canada, WP to provide across border connectivity.

The VOR Federal airway modifications removing route segments that extend to or into Canadian airspace and are outlined below.

V-84: The route segment from the London, ON, Canada, VOR/DME to the Buffalo, NY, VOR/DME is removed. (The portion of the route between the Flint, MI, VORTAC to the London, ON, Canada, VOR/DME was removed in a separate rulemaking action (79 FR 54185, September 11, 2014).)

V-91: The route segment from the Burlington, VT, VOR/DME to the intersection of the Plattsburgh, NY, VORTAC 348° and the St. Jean, PQ, Canada, VORTAC 226° radials is removed.

V-104: The route segment from the intersection of the Ottawa, ON, Canada, VORTAC 127° and the Massena, NY, VORTAC 300° radials to the Burlington, VT, VOR/DME is removed.

V-203: The route segment from the Massena, NY, VORTAC to the intersection of the Massena, NY, 047° VORTAC and the St. Jean, PQ, Canada, VORTAC 270° radials is removed.

V-423: The route segment from the Syracuse, NY, VORTAC to the intersection of the Watertown, NY, VORTAC 018° and the Massena, NY, VORTAC 270° radials is removed.

The jet route modifications removing route segments that extend to or into Canadian airspace and are outlined below.

J-16: The route segment east of the London, ON, Canada, VOR/DME to the Boston, MA, VOR/DME is removed. (The portion of the route between the Badger, WI, VORTAC to the London, ON, Canada, VOR/DME was removed in a separate rulemaking action (79 FR 54185, September 11, 2014).)

J-29: The route segment northeast of the Pocket City, IN, VORTAC to the Halifax, Canada, VOR/DME is removed.

J-43: The route segment north of the Carleton, MI, VORTAC to the Sault Ste Marie, MI, VOR/DME is removed.

J-53: The route segment north of the Pulaski, VA, VORTAC to the Ellwood City, PA, VORTAC is removed.

J-61: The route segment north of the Philipsburg, PA, VORTAC to the Buffalo, NY, VOR/DME is removed.

J-78: The route segment east of the Charleston, WV, VORTAC to the Milton, PA, VORTAC is removed.

J-82: The route segment east of the Goshen, IN, VORTAC to the Albany, NY, VORTAC is removed.

J-91: The route segment north of the Henderson, WV, VORTAC to the Bellaire, OH, VOR/DME is removed.

J-94: The route segment east of the London, ON, Canada, VOR/DME to the Boston, MA, VOR/DME is removed. (The portion of the route between the Flint, MI, VORTAC to the London, ON, Canada, VOR/DME was removed in a separate rulemaking action (79 FR 54185, September 11, 2014).)

J-95: The route segment northwest of the Binghamton, NY, VORTAC to the intersection of the Buffalo, NY, VOR/DME 316° and the Dunkirk, NY, VORTAC 012° radials is removed.

J-106: The route segment east of the Gopher, MN, VORTAC to the Jamestown, NY, VOR/DME is removed.

J-109: The route segment north of the Linden, VA, VORTAC to the Buffalo, NY, VOR/DME is removed.

J-145: The route segment north of the Charleston, WV, VORTAC to the Ellwood City, PA, VORTAC is removed.

J-220: The route segment northwest of the Stonyfork, PA, VOR/DME to the Buffalo, NY, VOR/DME is removed.

J-547: The route segment east of the Flint, MI, VORTAC to the Kennebunk, ME, VOR/DME is removed.

J-548: The route segment northeast of the Traverse City, MI, VORTAC to the Timmins, ON, Canada, VOR/DME is removed.

The RNAV route modifications accomplished by this action are outlined below.

Q-29: The route segment north of the SIDAE waypoint (WP) to the Pocket City, IN, VORTAC is removed, and the remaining route is extended by over 1,000 nautical miles (NM) northeast to the DUVOK, Canada, WP, excluding the airspace within Canada. This adds connectivity to many northeastern airports and the North Atlantic routes.

Q-39: The route is modified by moving the route termination point west approximately 5 NM from the TARCI, WV, fix to the WISTA, WV, WP. This modification serves aircraft landing at the Port Columbus, OH; Cleveland, OH; and Detroit, MI, airports.

Q-67: The route segment northeast of the TONIO, KY, fix to the Henderson, WV, VORTAC is removed and the remaining route is extended north approximately 104 NM to the COLTZ, OH, fix. This provides RNAV routing for Atlanta, GA, departures and Cleveland, OH, and Detroit, MI, arrivals.

Q-69: The route segment north of the EWESS, WV, WP to the Elkins, WV, VORTAC is removed and the remaining route is extended north to the RICCS, WV, fix. This modification continues supporting Charlotte, NC, departures to the Pittsburgh, PA; Buffalo, NY; and Toronto, ON, Canada, airports, as well as Toronto, ON, Canada, departures to Charlotte, NC.

Q-71: The route is extended approximately 173 NM north to the Philipsburg, PA, VORTAC. This supports Atlanta, GA, departures to the northeast and overseas; Washington, DC, departures to the southwest; as well as overseas arrivals to Atlanta, GA, and New York, NY, airports.

Q-138: The route segment east of the MOTLY, SD, WP to the Aberdeen, SD, VOR/DME is removed and the remaining route is extended approximately 591 NM east to the Sault Ste Marie, MI, VOR/DME. This supports San Francisco, CA, departures to the Chicago, IL; New York, NY; Boston, MA; and Toronto, ON, Canada, airports. It also supports New York area departures to Portland, OR; Seattle, WA; and Northern California airports.

Q-140: The route is extended approximately 683 NM east to the YODAA, NY, fix. This supports Seattle, WA, departures to New York, NY, and New England area airports.

Q-438: The route is modified by removing the Flint, MI, VORTAC from the route description.

Q-440: The route is modified by removing the Flint, MI, VORTAC from the route description and extending the route approximately 384 NM west to begin at the HUFFR, MN, WP.

The U.S. RNAV routes established by this action are outlined below.

Q-82: The route is established from the WWSHR, OH, WP to the PONCT, NY, WP. This supports aircraft departing New York and New England airports landing at Chicago, IL, airports and transiting southwest, as well as supports aircraft transiting northeast bound landing in the New England area.

Q-84: The route is established from the Jamestown, NY, VOR/DME to the Cambridge, NY, VOR/DME. This supports aircraft departing the New England area to the Chicago Midway, IL, and Cleveland, OH, airports.

Q-103: The route is established from the Pulaski, VA, VORTAC to the AIRRA, PA, WP. This ties into a new RNAV departure procedure being established for the Toronto Pearson International Airport, ON, Canada, and other RNAV routes that support aircraft flying to Florida, Cuba, and South America airports.

Q-145: The route is established from the KONGO, KY, fix to the FOXEE, PA, WP. This supports aircraft departures from the Toronto Pearson International Airport, ON, Canada, and from northeastern U.S. airports to Atlanta, GA, and Charlotte, NC, airports.

As noted above, this action also extends nine Canadian high-altitude RNAV routes into and through U.S. airspace. The Canadian RNAV route extensions are outlined below.

Q-806: The route extension is established from the MEKSO, Canada, WP east through U.S. airspace to the VOGET, Canada, WP, excluding the airspace within Canada. This supports Detroit, MI, arrivals from Montreal and Toronto, Canada, and overseas locations.

Q-824: The route extension is established from the Flint, MI, VORTAC northeast into Canadian airspace to the TAGUM, Canada, WP, excluding the airspace within Canada. This supports Chicago O'Hare International Airport, IL, arrivals from the North Atlantic tracks.

Q-844: The route extension is established from the Syracuse, NY, VORTAC, north to the VIBRU, Canada, WP, excluding the airspace within Canada. This connects with other RNAV routes in the Syracuse, NY, area.

Q-848: The route extension is established from the SLLAP, MI, WP east to the MENKO, Canada, WP, excluding the airspace within Canada. This supports international flights to and from Europe and the Chicago, IL, and Detroit, MI, airports.

Q-905: The route extension is established from the HOCKE, MI, WP northeast to the SIKBO, Canada, WP, excluding the airspace within Canada. This supports eastbound traffic to Montreal, Canada, and overseas airports.

Q-907: The route extension is established from the POSTS, MI, fix northeast through Canadian and U.S. airspace to the MIILS, Canada, WP, excluding the airspace within Canada. This supports international departures from the Chicago O'Hare, IL, airport.

Q-913: The route extension is established from the RAKAM, Canada, WP northeast to the TOPPS, ME, fix, excluding the airspace within Canada. This supports across border connectivity to the U.S. ATS route structure northeast of Bangor, ME.

Q-947: The route extension is established from the REVEN, Canada, WP northeast to the DUVOK, Canada, WP, excluding the airspace within Canada. This supports Canada's WTM airspace redesign project.

Q-951: The route extension is established from the POSTS, MI, fix northeast through Canadian and U.S. airspace to the PUXOP, Canada, WP, excluding the airspace within Canada. This supports Canada's WTM airspace redesign project.

This action also establishes eight new Canadian high-altitude RNAV routes. The new Canadian high-altitude RNAV routes are outlined below.

Q-812: The route is established from the TIMMR, ND, fix east through Canadian airspace to the GAYEL, NY, fix, excluding the airspace within Canada. This supports John F. Kennedy International Airport, NY, departure offloads and New York metropolitan area airport arrivals on a swap route basis.

Q-816: The route is established from the HOCKE, MI, WP east through Canadian airspace to the HANAA, NY, WP, excluding the airspace within Canada. This supports westbound departures from Boston, MA, and other New England area airports.

Q-818: The route is established from the Flint, MI, VORTAC east through Canadian airspace to the GAYEL, NY, fix, excluding the airspace within Canada. This supports westbound departures from New York area airports through Canadian airspace.

Q-822: The route is established from the Flint, MI, VORTAC east through Canadian and U.S. airspace to the TANGU, Canada, WP, excluding the airspace within Canada. This supports Chicago O'Hare, IL, arrivals from the Halifax, Canada, and New England area airports.

Q-917: The route is established from the Sault Ste Marie, MI, VOR/DME southeast through Canadian airspace to the WOZEE, NY, WP, excluding the airspace within Canada.

Q-923: The route is established from the HOCKE, MI, WP northeast to the SASUT, Canada, WP, excluding the airspace within Canada. This supports Detroit, MI, international departures and arrivals, as well as across border connectivity to the U.S. ATS route structure.

Q-935: The route is established from the MONEE, MI, fix east through Canadian airspace to the Boston, MA, VOR/DME, excluding the airspace within Canada.

Q-937: The route is established from the TULEG, Canada, WP southeast into U.S. airspace to the KRAZZ, NY, fix, excluding the airspace within Canada. This supports across border connectivity to the U.S. ATS route structure.

This action also establishes three new Canadian low-altitude RNAV routes. The new Canadian low-altitude RNAV routes are outlined below.

T-608: The route is established from the WOZEE, NY, WP west through Canadian airspace to the HOCKE, MI, WP, excluding the airspace within Canada.

T-616: The route is established from the Flint, MI, VORTAC east into Canadian airspace to the LEPOS, Canada, WP, excluding the airspace within Canada.

T-781: The route is established from the Flint, MI, VORTAC east into Canadian airspace to the AXOBU, Canada, fix, excluding the airspace within Canada.

Finally, this action removes VOR Federal airway V-337; jet routes J-38, J-63, J-185, J-488, J-500, J-509, J-522, J-524, J-531, J-545, J-552, J-559, J-560, J-564, J-566, J-567, J-581, J-586, J-587, J-588, J-594, and J-595; and RNAV routes Q-501, Q-502, Q-504, and Q-505.

The navigation aid radials cited in the route descriptions, below, are unchanged from the existing routes and are stated relative to True north.

Jet routes are published in paragraph 2004, high altitude United States RNAV routes are published in paragraph 2006, and domestic VOR Federal airways are published in paragraph 6010(a) of FAA Order 7400.9Y dated August 6, 2014, and effective September 15, 2014, which is incorporated by reference in 14 CFR 71.1. The jet routes, high altitude United States RNAV routes (Q-routes), and VOR Federal airways listed in this rule will be subsequently published in the Order. Additionally, this action publishes high altitude Canadian RNAV routes (Q-routes) in paragraph 2007 (new) and low altitude Canadian RNAV routes (T-routes) in paragraph 6013 (new) of FAA Order 7400.9Y dated August 6, 2014, and effective September 15, 2014, which is incorporated by reference in 14 CFR 71.1.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 2004 Jet routes.

* * * * *

J-16 (Amended)

From Battle Ground, WA; Pendleton, OR; Whitehall, MT; Billings, MT; Dupree, SD; Sioux Falls, SD; Mason City, IA; to Badger, WI.

* * * * *

J-29 (Amended)

From INT of United States/Mexican Border and Corpus Christi, TX, 229° radial; Corpus Christi; Palacios, TX; Humble, TX; El Dorado, AR; Memphis, TN; to Pocket City, IN.

* * * * *

J-38 (Removed)

* * * * *

J-43 (Amended)

From Dolphin, FL; LaBelle, FL; St. Petersburg, FL; Seminole, FL; Atlanta, GA; Volunteer, TN; Falmouth, KY; Rosewood, OH; to Carleton, MI.

* * * * *

J-53 (Amended)

From Dolphin, FL; INT Dolphin 354° and Pahokee, FL, 157° radials; Pahokee; INT Pahokee 342° and Orlando, FL, 162° radials; Orlando; Craig, FL; INT Craig 347° and Colliers, SC, 174° radials; Colliers; Spartanburg, SC; to Pulaski, VA.

* * * * *

J-61 (Amended)

From INT Dixon NDB, NC, 023° and Nottingham, MD, 174° radials; Nottingham; Westminster, MD; to Philipsburg, PA.

* * * * *

J-63 (Removed)

* * * * *

J-78 (Amended)

From Los Angeles, CA; Seal Beach, CA; Thermal, CA; Parker, CA; Drake, AZ; Zuni, AZ; Albuquerque, NM; Tucumcari, NM; Panhandle, TX; Will Rogers, OK; Tulsa, OK; Farmington, MO; Pocket City, IN; Louisville, KY; to Charleston, WV.

* * * * *

J-82 (Amended)

From Battle Ground, WA; Donnelly, ID; Dubois, ID; Crazy Woman, WY; Rapid City, SD; Sioux Falls, SD; Fort Dodge, IA; Dubuque, IA; INT Dubuque 095° and Joliet, IL, 317° radials; Joliet; to Goshen, IN.

* * * * *

J-91 (Amended)

From INT Orlando, FL, 274° and Cross City, FL, 133° radials; Cross City; INT Cross City 338° and Atlanta, GA, 169° radials; Atlanta; Volunteer, TN; to Henderson, WV.

* * * * *

J-94 (Amended)

From Oakland, CA; Manteca, CA; INT Manteca 047° and Mustang, NV, 208° radials; Mustang; Lovelock, NV; Battle Mountain, NV; Lucin, UT; Rock Springs, WY; Scottsbluff, NE; O'Neill, NE; Fort Dodge, IA; Dubuque, IA; Northbrook, IL; Pullman, MI; to Flint, MI.

J-95 (Amended)

From Deer Park, NY; INT Deer Park 308° and Binghamton, NY, 119° radials; to Binghamton.

* * * * *

J-106 (Amended)

From Jamestown, NY; Wilkes-Barre, PA; Stillwater, NJ; to LaGuardia, NY.

* * * * *

J-109 (Amended)

From Wilmington, NC; Flat Rock, VA; to Linden, VA.

* * * * *

J-145 (Amended)

From Foothills, SC; to Charleston, WV.

* * * * *

J-185 (Removed)

* * * * *

J-220 (Amended)

From Armel, VA; INT Armel 001° and Stonyfork, PA, 181° radials; to Stonyfork.

* * * * *

J-488 (Removed)

J-500 (Removed)

* * * * *

J-509 (Removed)

* * * * *

J-522 (Removed)

* * * * *

J-524 (Removed)

* * * * *

J-531 (Removed)

* * * * *

J-545 (Removed)

* * * * *

J-547 (Amended)

From Northbrook, IL; Pullman, MI; to Flint, MI.

J-548 (Amended)

From Pullman, MI; to Traverse City, MI.

* * * * *

J-552 (Removed)

* * * * *

J-559 (Removed)

J-560 (Removed)

* * * * *

J-564 (Removed)

J-566 (Removed)

J-567 (Removed)

* * * * *

J-581 (Removed)

* * * * *

J-586 (Removed)

J-587 (Removed)

J-588 (Removed)

* * * * *

J-594 (Removed)

J-595 (Removed)

* * * * *

Paragraph 2006 United States Area Navigation Routes

* * * * *

Q-29 HARES, LA to DUVOK, Canada (Amended)
HARES, LA | WP | (Lat. 33°00′00.00″ N., long. 091°44′00.00″ W.)
BAKRE, MS | WP | (Lat. 33°53′45.85″ N., long. 090°58′04.75″ W.)
Memphis, TN (MEM) | VORTAC | (Lat. 35°00′54.42″ N., long. 089°58′59.55″ W.)
OMDUE, TN | WP | (Lat. 36°07′47.32″ N., long. 088°58′11.49″ W.)
SIDAE, KY | WP | (Lat. 37°20′00.00″ N., long. 087°50′00.00″ W.)
CREEP, OH | FIX | (Lat. 39°55′15.28″ N., long. 084°18′31.41″ W.)
KLYNE, OH | WP | (Lat. 40°41′54.46″ N., long. 083°18′44.19″ W.)
DUTSH, OH | FIX | (Lat. 41°08′26.35″ N., long. 082°33′12.68″ W.)
WWSHR, OH | WP | (Lat. 41°20′34.09″ N., long. 082°03′05.76″ W.)
DORET, OH | FIX | (Lat. 41°48′05.90″ N., long. 080°35′04.64″ W.)
Jamestown, NY (JHW) | VOR/DME | (Lat. 42°11′18.99″ N., long. 079°07′16.70″ W.)
HANKK, NY | FIX | (Lat. 42°53′41.82″ N., long. 077°09′15.21″ W.)
GONZZ, NY | WP | (Lat. 43°05′22.00″ N., long. 076°41′12.00″ W.)
KRAZZ, NY | WP | (Lat. 43°25′00.00″ N., long. 074°18′00.00″ W.)
NIPPY, NY | FIX | (Lat. 43°41′23.08″ N., long. 073°58′06.74″ W.)
CABCI, VT | WP | (Lat. 44°49′19.94″ N., long. 071°42′55.14″ W.)
EBONY, ME | FIX | (Lat. 44°54′08.68″ N., long. 067°09′23.65″ W.)
DUNOM, ME | WP | (Lat. 44°54′06.95″ N., long. 067°00′00.00″ W.)
DUVOK, Canada | WP | (Lat. 44°55′37.33″ N., long. 065°17′11.66″ W.)
Excluding the portion within Canada.
* * * * * * *
Q-39 CLAWD, NC to WISTA, WV (Amended)
CLAWD, NC | WP | (Lat. 36°25′08.98″ N., long. 081°08′49.75″ W.)
WISTA, WV | WP | (Lat. 38°17′00.52″ N., long. 081°27′46.55″ W.)
* * * * * * *
Q-67 SMTTH, TN to COLTZ, OH (Amended)
SMTTH, TN | WP | (Lat. 35°54′41.57″ N., long. 084°00′19.74″ W.)
CEMEX, KY | WP | (Lat. 36°45′44.94″ N., long. 083°23′33.58″ W.)
IBATE, KY | WP | (Lat. 36°59′12.36″ N., long. 083°13′40.36″ W.)
TONIO, KY | FIX | (Lat. 37°15′15.20″ N., long. 083°01′47.53″ W.)
JONEN, KY | WP | (Lat. 37°59′08.91″ N., long. 082°32′46.19″ W.)
COLTZ, OH | FIX | (Lat. 40°29′31.82″ N., long. 082°18′20.39″ W.)
* * * * * * *
Q-69 BLANN, SC to RICCS, WV (Amended)
BLAAN, SC | WP | (Lat. 33°51′09.38″ N., long. 080°53′32.78″ W.)
RYCKI, NC | WP | (Lat. 36°24′43.05″ N., long. 080°25′07.50″ W.)
LUNDD, VA | WP | (Lat. 36°44′22.38″ N., long. 080°21′07.11″ W.)
ILLSA, VA | WP | (Lat. 37°38′55.85″ N., long. 080°13′18.44″ W.)
EWESS, WV | WP | (Lat. 38°21′50.31″ N., long. 080°06′52.03″ W.)
RICCS, WV | FIX | (Lat. 38°55′14.65″ N., long. 080°05′01.68″ W.)
Q-71 BOBBD, TN to Philipsburg, PA (PSB) (Amended)
BOBBD, TN | WP | (Lat. 35°47′57.59″ N., long. 083°51′33.90″ W.)
ATUME, KY | WP | (Lat. 36°57′13.65″ N., long. 083°03′24.36″ W.)
HAPKI, KY | WP | (Lat. 37°04′55.73″ N., long. 082°51′02.62″ W.)
KONGO, KY | FIX | (Lat. 37°30′19.46″ N., long. 082°08′12.56″ W.)
WISTA, WV | WP | (Lat. 38°17′00.52″ N., long. 081°27′46.55″ W.)
GEFFS, WV | FIX | (Lat. 39°00′49.86″ N., long. 080°48′49.85″ W.)
EMNEM, WV | WP | (Lat. 39°31′27.12″ N., long. 080°04′28.21″ W.)
PSYKO, PA | WP | (Lat. 40°08′37.00″ N., long. 079°09′13.00″ W.)
Philipsburg, PA (PSB) | VORTAC | (Lat. 40°54′58.53″ N., long. 077°59′33.78″ W.)
* * * * * * *
Q-82 WWSHR, OH to PONCT, NY (New)
WWSHR, OH | WP | (Lat. 41°20′34.09″ N., long. 082°03′05.76″ W.)
DORET, OH | FIX | (Lat. 41°48′05.90″ N., long. 080°35′04.64″ W.)
Jamestown, NY (JHW) | VOR/DME | (Lat. 42°11′18.99″ N., long. 079°07′16.70″ W.)
WAYLA, NY | FIX | (Lat. 42°20′58.54″ N., long. 077°48′57.18″ W.)
VIEEW, NY | FIX | (Lat. 42°26′22.07″ N., long. 077°01′33.30″ W.)
MEMMS, NY | FIX | (Lat. 42°30′59.71″ N., long. 076°18′15.43″ W.)
LOXXE, NY | FIX | (Lat. 42°34′29.55″ N., long. 075°43′33.49″ W.)
PONCT, NY | WP | (Lat. 42°44′48.83″ N., long. 073°48′48.07″ W.)
Q-84 Jamestown, NY (JHW) to Cambridge, NY (CAM) (New)
Jamestown, NY (JHW) | VOR/DME | (Lat. 42°11′18.99″ N., long. 079°07′16.70″ W.)
AUDIL, NY | FIX | (Lat. 42°52′18.74″ N., long. 076°26′35.07″ W.)
PUPPY, NY | FIX | (Lat. 43°03′26.46″ N., long. 075°17′39.29″ W.)
PAYGE, NY | FIX | (Lat. 43°00′50.48″ N., long. 074°15′12.76″ W.)
Cambridge, NY (CAM) | VOR/DME | (Lat. 42°59′39.40″ N., long. 073°20′38.50″ W.)
Q-103 Pulaski, VA (PSK) to AIRRA, PA (New)
Pulaski, VA (PSK) | VORTAC | (Lat. 37°05′15.74″ N., long. 080°42′46.44″ W.)
ASBUR, WV | FIX | (Lat. 37°49′24.41″ N., long. 080°27′51.44″ W.)
OAKLE, WV | FIX | (Lat. 38°07′13.80″ N., long. 080°21′44.84″ W.)
PERRI, WV | FIX | (Lat. 38°17′50.49″ N., long. 080°18′05.11″ W.)
PERKS, WV | FIX | (Lat. 38°39′40.84″ N., long. 080°10′29.36″ W.)
RICCS, WV | FIX | (Lat. 38°55′14.65″ N., long. 080°05′01.68″ W.)
EMNEM, WV | WP | (Lat. 39°31′27.12″ N., long. 080°04′28.21″ W.)
AIRRA, PA | WP | (Lat. 41°06′16.48″ N., long. 080°03′48.73″ W.)
* * * * * * *
Q-138 Williams, CA (ILA) to Sault Ste Marie, MI (SSM) (Amended)
Williams, CA (ILA) | VORTAC | (Lat. 39°04′16.13″ N., long. 122°01′38.08″ W.)
FIMUV, CA | WP | (Lat. 39°49′05.18″ N., long. 120°11′16.65″ W.)
JENSA, NV | WP | (Lat. 40°11′36.00″ N., long. 119°13′27.00″ W.)
PUHGI, NV | WP | (Lat. 40°47′37.81″ N., long. 117°45′32.46″ W.)
ROOHZ, NV | WP | (Lat. 41°14′12.31″ N., long. 116°12′58.14″ W.)
PARZZ, NV | WP | (Lat. 41°36′14.64″ N., long. 115°02′09.69″ W.)
UROCO, WY | WP | (Lat. 42°51′52.20″ N., long. 110°50′25.10″ W.)
RICCO, WY | WP | (Lat. 43°48′29.14″ N., long. 107°02′30.21″ W.)
MOTLY, SD | WP | (Lat. 44°45′50.43″ N., long. 102°25′43.24″ W.)
DKOTA, SD | WP | (Lat. 45°22′17.00″ N., long. 097°37′27.00″ W.)
WELOK, MN | WP | (Lat. 45°41′26.32″ N., long. 094°15′28.74″ W.)
CESNA, WI | WP | (Lat. 45°52′14.00″ N., long. 092°10′59.00″ W.)
GUUME, WI | WP | (Lat. 45°55′07.51″ N., long. 091°40′55.80″ W.)
SNARG, WI | WP | (Lat. 45°58′52.00″ N., long. 091°02′16.00″ W.)
Sault Ste Marie, MI (SSM) | VOR/DME | (Lat. 46°24′43.60″ N., long. 084°18′53.54″ W.)
Q-140 WOBED, WA to YODAA, NY (Amended)
WOBED, WA | WP | (Lat. 48°36′01.07″ N., long. 122°49′46.52″ W.)
GETNG, WA | WP | (Lat. 48°25′30.57″ N., long. 119°31′38.98″ W.)
CORDU, ID | FIX | (Lat. 48°10′46.41″ N., long. 116°40′21.84″ W.)
PETIY, MT | WP | (Lat. 47°58′46.55″ N., long. 114°36′20.31″ W.)
CHOTE, MT | FIX | (Lat. 47°39′56.68″ N., long. 112°09′38.13″ W.)
LEWIT, MT | WP | (Lat. 47°23′00.21″ N., long. 110°08′44.78″ W.)
SAYOR, MT | FIX | (Lat. 47°13′58.34″ N., long. 104°58′39.28″ W.)
WILTN, ND | FIX | (Lat. 47°04′58.09″ N., long. 100°47′43.84″ W.)
TTAIL, MN | WP | (Lat. 46°41′28.00″ N., long. 096°41′09.00″ W.)
CESNA, WI | WP | (Lat. 45°52′14.00″ N., long. 092°10′59.00″ W.)
WISCN, WI | WP | (Lat. 45°18′19.45″ N., long. 089°27′53.91″ W.)
EEGEE, WI | WP | (Lat. 45°08′53.00″ N., long. 088°45′58.00″ W.)
DAYYY, MI | WP | (Lat. 44°10′10.00″ N., long. 084°22′23.00″ W.)
RUBKI, Canada | WP | (Lat. 44°14′56.00″ N., long. 082°15′25.99″ W.)
PEPLA, Canada | WP | (Lat. 43°47′51.00″ N., long. 080°01′02.00″ W.)
SIKBO, Canada | WP | (Lat. 43°39′13.00″ N., long. 079°20′57.00″ W.)
MEDAV, Canada | WP | (Lat. 43°29′19.00″ N., long. 078°45′46.00″ W.)
AHPAH, NY | WP | (Lat. 43°18′19.00″ N., long. 078°07′35.11″ W.)
HANKK, NY | FIX | (Lat. 42°53′41.82″ N., long. 077°09′15.21″ W.)
BEEPS, NY | FIX | (Lat. 42°49′13.26″ N., long. 076°59′04.84″ W.)
EXTOL, NY | FIX | (Lat. 42°39′27.69″ N., long. 076°37′06.10″ W.)
MEMMS, NY | FIX | (Lat. 42°30′59.71″ N., long. 076°18′15.43″ W.)
KODEY, NY | FIX | (Lat. 42°16′47.53″ N., long. 075°47′04.00″ W.)
ARKKK, NY | FIX | (Lat. 42°03′48.52″ N., long. 075°19′00.41″ W.)
RODYY, NY | WP | (Lat. 41°52′25.85″ N., long. 074°35′49.39″ W.)
YODAA, NY | FIX | (Lat. 41°43′21.19″ N., long. 074°01′52.76″ W.)
Excluding the airspace within Canada.
* * * * * * *
Q-145 KONGO, KY to FOXEE, PA (New)
KONGO, KY | FIX | (Lat. 37°30′19.46″ N., long. 082°08′12.56″ W.)
Charleston, WV (HVQ) | VORTAC | (Lat. 38°20′58.84″ N., long. 081°46′11.68″ W.)
CLNTN, OH | WP | (Lat. 39°32′02.19″ N., long. 081°14′31.33″ W.)
FOXEE, PA | WP | (Lat. 41°11′37.87″ N., long. 080°29′44.09″ W.)
* * * * * * *
Q-438 RUBYY, MI to RAAKK, NY (Amended)
RUBYY, MI | WP | (Lat. 43°01′03.79″ N., long. 084°35′16.22″ W.)
BERYS, MI | WP | (Lat. 42°54′33.97″ N., long. 083°17′59.75″ W.)
TWIGS, MI | WP | (Lat. 42°48′34.10″ N., long. 082°33′10.30″ W.)
JAAJA, Canada | WP | (Lat. 42°40′00.00″ N., long. 081°16′00.00″ W.)
ICHOL, Canada | WP | (Lat. 42°38′31.46″ N., long. 080°30′13.99″ W.)
FARGN, Canada | WP | (Lat. 42°36′42.19″ N., long. 079°47′18.42″ W.)
RAAKK, NY | WP | (Lat. 42°23′59.00″ N., long. 078°54′39.00″ W.)
Excluding the airspace within Canada.
Q-440 HUFFR, MN to RAAKK, NY (Amended)
HUFFR, MN | WP | (Lat. 45°08′48.63″ N., long. 093°29′29.66″ W.)
IDIOM, WI | WP | (Lat. 44°30′18.00″ N., long. 088°17′57.00″ W.)
DEANI, MI | FIX | (Lat. 43°43′07.35″ N., long. 085°46′29.20″ W.)
SLLAP, MI | WP | (Lat. 43°27′00.30″ N., long. 084°56′19.79″ W.)
BERYS, MI | WP | (Lat. 42°54′33.97″ N., long. 083°17′59.75″ W.)
TWIGS, MI | WP | (Lat. 42°48′34.10″ N., long. 082°33′10.30″ W.)
JAAJA, Canada | WP | (Lat. 42°40′00.00″ N., long. 081°16′00.00″ W.)
ICHOL, Canada | WP | (Lat. 42°38′31.46″ N., long. 080°30′13.99″ W.)
FARGN, Canada | WP | (Lat. 42°36′42.19″ N., long. 079°47′18.42″ W.)
RAAKK, NY | WP | (Lat. 42°23′59.00″ N., long. 078°54′39.00″ W.)
Excluding the airspace within Canada.

* * * * *

Q-501 (Removed)

Q-502 (Removed)

Q-504 (Removed)

Q-505 (Removed)

Paragraph 2007 Canadian Area Navigation Routes (New)

Q-806 MEKSO, Canada to VOGET, Canada (New)
MEKSO, Canada | WP | (Lat. 45°47′21.10′ N., long. 070°25′37.90″ W.)
Millinocket, ME (MLT) | VOR/DME | (Lat. 45°35′12.20′ N., long. 068°30′55.70″ W.)
CANME, ME | WP | (Lat. 45°29′16.29′ N., long. 067°37′16.80″ W.)
VOGET, Canada | WP | (Lat. 45°00′34.00′ N., long. 063°58′32.00″ W.)
Excluding the airspace within Canada.
Q-812 TIMMR, ND to GAYEL, NY (New)
TIMMR, ND | FIX | (Lat. 46°22′49.49″ N., long. 100°54′29.80″ W.)
WELOK, MN | WP | (Lat. 45°41′26.32″ N., long. 094°15′28.74″ W.)
CEWDA, WI | WP | (Lat. 44°48′32.00″ N., long. 088°33′00.00″ W.)
ZOHAN, MI | WP | (Lat. 43°55′57.00″ N., long. 084°23′09.00″ W.)
NOSIK, Canada | WP | (Lat. 43°59′00.00″ N., long. 082°11′52.30″ W.)
AGDOX, Canada | WP | (Lat. 43°17′01.71″ N., long. 079°05′29.29″ W.)
KELTI, NY | WP | (Lat. 43°16′57.00″ N., long. 078°56′00.00″ W.)
AHPAH, NY\ | WP | (Lat. 43°18′19.00″ N., long. 078°07′35.11″ W.)
GOATR, NY | WP | (Lat. 43°17′26.08″ N., long. 076°39′07.75″ W.)
Syracuse, NY (SYR) | VORTAC | (Lat. 43°09′37.87″ N., long. 076°12′16.41″ W.)
FABEN, NY | FIX | (Lat. 42°51′12.04″ N., long. 075°57′07.91″ W.)
LOXXE, NY | FIX | (Lat. 42°34′29.55″ N., long. 075°43′33.49″ W.)
ARKKK, NY | FIX | (Lat. 42°03′48.52″ N., long. 075°19′00.41″ W.)
STOMP, NY | FIX | (Lat. 41°35′46.78″ N., long. 074°47′47.79″ W.)
MSLIN, NY | FIX | (Lat. 41°29′30.82″ N., long. 074°33′14.28″ W.)
GAYEL, NY | FIX | (Lat. 41°24′24.09″ N., long. 074°21′25.75″ W.)
Excluding the airspace within Canada.
Q-816 HOCKE, MI to HANAA, NY (New)
HOCKE, MI | WP | (Lat. 43°15′43.38″ N., long. 082°42′38.27″ W.)
OMRAK, Canada | WP | (Lat. 43°16′06.00″ N., long. 082°16′25.00″ W.)
AGDOX, Canada | WP | (Lat. 43°17′01.71″ N., long. 079°05′29.29″ W.)
KELTI, NY | WP | (Lat. 43°16′57.00″ N., long. 078°56′00.00″ W.)
AHPAH, NY | WP | (Lat. 43°18′19.00″ N., long. 078°07′35.11″ W.)
GOATR, NY | WP | (Lat. 43°17′26.08″ N., long. 076°39′07.75″ W.)
ARNII, NY | WP | (Lat. 43°14′59.92″ N., long. 074°20′00.14″ W.)
HANAA, NY | WP | (Lat. 43°11′52.06″ N., long. 073°36′46.17″ W.)
Excluding the airspace within Canada.
Q-818 Flint, MI (FNT) to GAYEL, NY (New)
Flint, MI (FNT) | VORTAC | (Lat. 42°58′00.38″ N., long. 083°44′49.08″ W.)
TANKO, Canada | WP | (Lat. 43°01′32.00″ N., long. 082°22′43.00″ W.)
KITOK, Canada | WP | (Lat. 43°02′30.00″ N., long. 081°55′34.00″ W.)
DERLO, Canada | WP | (Lat. 43°03′59.00″ N., long. 081°05′43.00″ W.)
IKNAV, Canada | WP | (Lat. 42°57′43.00″ N., long. 078°59′04.00″ W.)
WOZEE, NY | WP | (Lat. 42°56′01.65″ N., long. 078°44′19.64″ W.)
KELIE, NY | FIX | (Lat. 42°39′37.32″ N., long. 077°44′41.05″ W.)
VIEEW, NY | FIX | (Lat. 42°26′22.07″ N., long. 077°01′33.30″ W.)
Binghampton, NY (CFB) | VORTAC | (Lat. 42°09′26.96″ N., long. 076°08′11.30″ W.)
BUFFY, PA | FIX | (Lat. 41°56′27.98″ N., long. 075°36′45.35″ W.)
STOMP, NY | FIX | (Lat. 41°35′46.78″ N., long. 074°47′47.79″ W.)
MSLIN, NY | FIX | (Lat. 41°29′30.82″ N., long. 074°33′14.28″ W.)
GAYEL, NY | FIX | (Lat. 41°24′24.09″ N., long. 074°21′25.75″ W.)
Excluding the airspace within Canada.
Q-822 Flint, MI (FNT) to TANGU, Canada (New)
Flint, MI (FNT) | VORTAC | (Lat. 42°58′00.38″ N., long. 083°44′49.08″ W.)
TANKO, Canada | WP | (Lat. 43°01′32.00″ N., long. 082°22′43.00″ W.)
KITOK, Canada | WP | (Lat. 43°02′30.00″ N., long. 081°55′34.00″ W.)
DERLO, Canada | WP | (Lat. 43°03′59.00″ N., long. 081°05′43.00″ W.)
HOZIR, NY | WP | (Lat. 43°06′03.59″ N., long. 079°02′05.27″ W.)
GONZZ, NY | WP | (Lat. 43°05′22.00″ N., long. 076°41′12.00″ W.)
PUPPY, NY | FIX | (Lat. 43°03′26.46″ N., long. 075°17′39.29″ W.)
PAYGE, NY | FIX | (Lat. 43°00′50.48″ N., long. 074°15′12.76″ W.)
Cambridge, NY (CAM) | VOR/DME | (Lat. 42°59′39.44″ N., long. 073°20′38.47″ W.)
Kennebunk, ME (ENE) | VOR/DME | (Lat. 43°25′32.42″ N., long. 070°36′48.69″ W.)
AJJAY, ME | WP | (Lat. 43°43′40.55″ N., long. 069°36′08.22″ W.)
ALLEX, ME | WP | (Lat. 44°25′00.00″ N., long. 067°00′00.00″ W.)
TANGU, Canada | WP | (Lat. 44°50′58.00″ N., long. 063°58′43.00″ W.)
Excluding the airspace within Canada.
Q824 Flint, MI (FNT) to TAGUM, Canada (New)
Flint, MI (FNT) | VORTAC | (Lat. 42°58′00.38″ N., long. 083°44′49.08″ W.)
HOCKE, MI | WP | (Lat. 43°15′43.38″ N., long. 082°42′38.27″ W.)
TAGUM, Canada | WP | (Lat. 43°28′47.00″ N., long. 082°10′37.00″ W.)
Excluding the airspace within Canada.
Q-844 Syracuse, NY (SYR) to VIBRU, Canada (New)
Syracuse, NY (SYR) | VORTAC | (Lat. 43°09′37.87″ N., long. 076°12′16.41″ W.)
VIBRU, Canada | WP | (Lat. 44°20′54.20″ N., long. 076°01′16.10″ W.)
Excluding the airspace within Canada.
Q848 SLLAP, MI to MENKO, Canada (New)
SLLAP, MI | WP | (Lat. 43°27′00.30″ N., long. 084°56′19.79″ W.)
HHIPP, MI | WP | (Lat. 43°40′33.00″ N., long. 082°48′58.00″ W.)
KARIT, MI | WP | (Lat. 43°43′23.00″ N., long. 082°08′40.00″ W.)
MENKO, Canada | WP | (Lat. 44°46′36.00″ N., long. 078°48′12.00″ W.)
Excluding the airspace within Canada.
Q-905 HOCKE, MI to SIKBO, Canada (New)
HOCKE, MI | WP | (Lat. 43°15′43.38″ N., long. 082°42′38.27″ W.)
SIKBO, Canada | WP | (Lat. 43°39′13.00″ N., long. 079°20′57.00″ W.)
Excluding the airspace within Canada.
Q-907 POSTS, MI to MIILS, Canada (New)
POSTS, MI | FIX | (Lat. 42°18′00.00″ N., long. 085°02′00.00″ W.)
PADDE, MI | WP | (Lat. 42°17′09.00″ N., long. 084°28′28.00″ W.)
Salem, MI (SVM) | VORTAC | (Lat. 42°24′31.09″ N., long. 083°35′38.05″ W.)
DERLO, Canada | WP | (Lat. 43°03′59.00″ N., long. 081°05′43.00″ W.)
SIKBO, Canada | WP | (Lat. 43°39′13.00″ N., long. 079°20′57.00″ W.)
AGNOB, Canada | FIX | (Lat. 44°12′03.30″ N., long. 077°30′07.20″ W.)
LORKA, Canada | FIX | (Lat. 44°46′08.70″ N., long. 076°12′59.90″ W.)
ADVIK, Canada | FIX | (Lat. 45°08′04.00″ N., long. 074°46′33.00″ W.)
ATENE, Canada | FIX | (Lat. 46°14′04.20″ N., long. 070°16′21.00″ W.)
MIILS, Canada | WP | (Lat. 46°52′42.00″ N., long. 067°02′09.00″ W.)
Excluding the airspace within Canada.
Q-913 RAKAM, Canada to TOPPS, ME (New)
RAKAM, Canada | WP | (Lat. 44°01′15.05″ N., long. 076°29′44.15″ W.)
CABCI, VT | WP | (Lat. 44°49′19.94″ N., long. 071°42′55.14″ W.)
TOPPS, ME | FIX | (Lat. 45°20′24.65″ N., long. 067°44′19.11″ W.)
Excluding the airspace within Canada.
Q-917 Sault Ste Marie, MI (SSM) to WOZEE, NY (New)
Sault Ste Marie, MI (SSM) | VOR/DME | (Lat. 46°24′43.60″ N., long. 084°18′53.54″ W.)
ULUTO, Canada | WP | (Lat. 46°18′16.00″ N., long. 084°05′41.00″ W.)
VIGLO, Canada | WP | (Lat. 45°23′28.00″ N., long. 082°25′11.00″ W.)
SASUT, Canada | WP | (Lat. 44°39′59.00″ N., long. 081°17′47.00″ W.)
PEPLA, Canada | WP | (Lat. 43°47′51.00″ N., long. 080°01′02.00″ W.)
HOZIR, NY | WP | (Lat. 43°06′03.59″ N., long. 079°02′05.27″ W.)
WOZEE, NY | WP | (Lat. 42°56′01.65″ N., long. 078°44′19.64″ W.)
Excluding the airspace within Canada.
Q-923 HOCKE, MI to SASUT, Canada (New)
HOCKE, MI | WP | (Lat. 43°15′43.38″ N., long. 082°42′38.27″ W.)
KARIT, MI | WP | (Lat. 43°43′23.00″ N., long. 082°08′40.00″ W.)
SASUT, Canada | WP | (Lat. 44°39′59.00″ N., long. 081°17′47.00″ W.)
Excluding the airspace within Canada.
Q-935 MONEE, MI to Boston, MA (BOS) (New)
MONEE, MI | FIX | (Lat. 43°14′25.80″ N., long. 084°27′50.95″ W.)
HOCKE, MI | WP | (Lat. 43°15′43.38″ N., long. 082°42′38.27″ W.)
OMRAK, Canada | WP | (Lat. 43°16′06.00″ N., long. 082°16′25.00″ W.)
DERLO, Canada | WP | (Lat. 43°03′59.00″ N., long. 081°05′43.00″ W.)
IKNAV, Canada | WP | (Lat. 42°57′43.00″ N., long. 078°59′04.00″ W.)
WOZEE, NY | WP | (Lat. 42°56′01.65″ N., long. 078°44′19.64″ W.)
HANKK, NY | FIX | (Lat. 42°53′41.82″ N., long. 077°09′15.21″ W.)
JOSSY, NY | FIX | (Lat. 42°53′29.93″ N., long. 077°02′36.80″ W.)
AUDIL, NY | FIX | (Lat. 42°52′18.74″ N., long. 076°26′35.07″ W.)
FABEN, NY | FIX | (Lat. 42°51′12.04″ N., long. 075°57′07.91″ W.)
PONCT, NY | WP | (Lat. 42°44′48.83″ N., long. 073°48′48.07″ W.)
Gardner, MA (GDM) | VOR/DME | (Lat. 42°32′45.32″ N., long. 072°03′29.48″ W.)
Boston, MA (BOS) | VOR/DME | (Lat. 42°21′26.82″ N., long. 070°59′22.37″ W.)
Excluding the airspace within Canada.
Q-937 TULEG, Canada to KRAZZ, NY (New)
TULEG, Canada | WP | (Lat. 43°43′54.84″ N., long. 076°43′09.82″ W.)
WAYGO, NY | WP | (Lat. 43°25′00.00″ N., long. 075°55′00.00″ W.)
KRAZZ, NY | FIX | (Lat. 43°25′00.00″ N., long. 074°18′00.00″ W.)
Excluding the airspace within Canada.
Q-947 REVEN, Canada to DUVOK, Canada (New)
REVEN, Canada | WP | (Lat. 45°33′09.70″ N., long. 070°42′01.90″ W.)
TOPPS, ME | FIX | (Lat. 45°20′24.65″ N., long. 067°44′19.11″ W.)
CUZWA, ME | WP | (Lat. 45°17′48.49″ N., long. 067°27′58.22″ W.)
DUVOK, Canada | WP | (Lat. 44°55′37.33″ N., long. 065°17′11.66″ W.)
Excluding the airspace within Canada.
Q-951 POSTS, MI to PUXOP, Canada (New)
POSTS, MI | FIX | (Lat. 42°18′00.00″ N., long. 085°02′00.00″ W.)
PADDE, MI | WP | (Lat. 42°17′09.00″ N., long. 084°28′28.00″ W.)
Salem, MI (SVM) | VORTAC | (Lat. 42°24′31.09″ N., long. 083°35′38.05″ W.)
DERLO, Canada | WP | (Lat. 43°03′59.00″ N., long. 081°05′43.00″ W.)
SIKBO, Canada | WP | (Lat. 43°39′13.00″ N., long. 079°20′57.00″ W.)
SANIN, Canada | WP | (Lat. 44°04′41.00″ N., long. 077°25′55.00″ W.)
OLABA, Canada | WP | (Lat. 44°28′35.00″ N., long. 076°12′12.00″ W.)
ALONI, Canada | WP | (Lat. 44°38′54.00″ N., long. 075°39′10.00″ W.)
DAVDA, NY | WP | (Lat. 44°43′27.00″ N., long. 075°22′28.20″ W.)
SAVAL, NY | WP | (Lat. 44°54′15.00″ N., long. 074°42′01.20″ W.)
TALNO, NY | WP | (Lat. 45°00′02.00″ N., long. 074°19′52.00″ W.)
RABIK, Canada | WP | (Lat. 45°17′56.00″ N., long. 072°36′37.00″ W.)
ANTOV, Canada | WP | (Lat. 45°22′35.00″ N., long. 071°02′15.00″ W.)
DANOL, ME | FIX | (Lat. 45°41′54.22″ N., long. 067°47′16.00″ W.)
PUXOP, Canada | WP | (Lat. 45°56′41.00″ N., long. 066°26′24.00″ W.)
Excluding the airspace within Canada.

Paragraph 6010(a). Domestic VOR Federal Airways

* * * * *

V-84 (Amended)

From Northbrook, IL; Pullman, MI; Lansing, MI; to Flint, MI. From Buffalo, NY; Geneseo, NY; INT Geneseo 091° and Syracuse, NY, 240° radials; to Syracuse.

* * * * *

V-91 (Amended)

From INT Calverton, NY, 180° and Hampton, NY, 223° radials; Calverton; Bridgeport, CT; Albany, NY; Glens Falls, NY; INT Glens Falls 032° and Burlington, VT, 187° radials; to Burlington.

* * * * *

V-104 (Amended)

From Burlington, VT; Montpelier, VT; Berlin, NH; to Bangor, ME.

* * * * *

V-203 (Amended)

From INT Chester, MA, 266° and Albany, NY, 134° radials; Albany; Saranac Lake, NY; to Massena, NY.

* * * * *

V-337 (Removed)

* * * * *

V-423 (Amended)

From Williamsport, PA; Binghamton, NY; Ithaca, NY; to Syracuse, NY.

* * * * *

Paragraph 6013. Canadian Area Navigation Routes (New)

T-608 WOZEE, NY to HOCKE, MI (New)
WOZEE, NY | WP | (Lat. 42°56′01.65″ N., long. 078°44′19.64″ W.)
BIMRO, Canada | WP | (Lat. 43°01′41.00″ N., long. 080°19′00.00″ W.)
DERLO, Canada | WP | (Lat. 43°03′59.00″ N., long. 081°05′43.00″ W.)
HAVOK, Canada | WP | (Lat. 43°01′15.00″ N., long. 081°36′12.00″ W.)
BOSEP, Canada | WP | (Lat. 43°06′16.00″ N., long. 082°00′30.00″ W.)
KATNO, Canada | WP | (Lat. 43°10′34.00″ N., long. 082°19′32.00″ W.)
HOCKE, MI | WP | (Lat. 43°15′43.38″ N., long. 082°42′38.27″ W.)
Excluding the airspace within Canada.
T-616 Flint, MI (FNT) to LEPOS, Canada (New)
Flint, MI (FNT) | VORTAC | (Lat. 42°58′00.40″ N., long. 083°44′49.10″ W.)
URSSA, MI | WP | (Lat. 43°02′46.48″ N., long. 083°28′20.09″ W.)
HOCKE, MI | WP | (Lat. 43°15′43.38″ N., long. 082°42′38.27″ W.)
LEPOS, Canada | WP | (Lat. 43°35′01.00″ N., long. 081°38′48.00″ W.)
Excluding the airspace within Canada.
T-781 Flint, MI (FNT) to AXOBU, Canada (New)
Flint, MI (FNT) | VORTAC | (Lat. 42°58′00.40″ N., long. 083°44′49.10″ W.)
KATTY, MI | WP | (Lat. 42°57′50.59″ N., long. 083°30′50.76″ W.)
HANKY, MI | FIX | (Lat. 42°57′43.51″ N., long. 083°21′59.93″ W.)
ADRIE, MI | FIX | (Lat. 42°57′29.80″ N., long. 083°06′49.84″ W.)
MARGN, MI | FIX | (Lat. 42°56′59.18″ N., long. 082°38′49.14″ W.)
BLUEZ, MI | FIX | (Lat. 42°56′49.98″ N., long. 082°31′36.44″ W.)
AXOBU, Canada | FIX | (Lat. 42°56′39.50″ N., long. 082°23′42.30″ W.)
Excluding the airspace within Canada.

Issued in Washington, DC, on September 17, 2014.
Ellen Crum,
Acting Manager, Airspace Policy & Regulations Group.

[FR Doc. 2014-22851 Filed 9-25-14; 8:45 am]

BILLING CODE 4910-13-P